DEPARTMENT OF DEFENSE

Office of the Secretary

[Transmittal Nos. 10-68]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Mr. John Unglesbee, DSCA/DBO/CFM, (703) 601-6026.

The following is a copy of a letter to the Speaker of the House of Representatives, Transmittal 10-68 with attached transmittal, policy justification, and Sensitivity of Technology.

Dated: June 16, 2011.
Aaron Siegel,
Alternate OSD Federal Register Liaison Officer, Department of Defense.

BILLING CODE 5001-06-P

[FR Doc. 2011-15771 Filed 6-23-11; 8:45 am]

BILLING CODE 5001-06-C